FEDERAL DEPOSIT INSURANCE CORPORATION

[OMB No. 3064-0169 and -0189]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0169, and -0189). The notices of proposed renewal for these information collections were previously published in the Federal Register on July 30, 2025, and August 11, 2025, respectively, allowing for a 60-day comment period. No comments were received.

DATES: Comments must be submitted on or before February 17, 2026.

ADDRESSES: Interested parties are invited to submit written comments to the FDIC by any of the following methods:

• Agency Website: https://www.fdic.gov/resources/regulations/federal-register-publications/.

• Email: comments@fdic.gov. Include the name and number of the collection in the subject line of the message.

• Mail: Robert Meiers, Regulatory Attorney, MB-3013, Federal Deposit Insurance Corporation, 550 17th Street NW, Washington, DC 20429.

• Hand Delivery: Comments may be hand-delivered to the guard station at the rear of the 17th Street NW building (located on F Street NW), on business days between 7 a.m. and 5 p.m.

Written comments and recommendations for the proposed information collection should be sent within 30 days of publication of this notice to www.reginfo.gov/public/do/PRAMain. Find these information collections by selecting “Currently under 30-day Review—Open for Public Comments” or by using the search function.

FOR FURTHER INFORMATION CONTACT: Robert Meiers, Regulatory Attorney, Romeiers@fdic.gov, MB-3013, Federal Deposit Insurance Corporation, 550 17th Street NW, Washington, DC 20429.

SUPPLEMENTARY INFORMATION: Proposal to renew the following currently approved collection of information:

1. Title: Qualifications for Failed Bank Acquisitions.

OMB Number: 3064-0169.

Form Number: None.

Affected Public: Insured State non-member banks and State savings associations.

Burden Estimate:

Summary of Estimated Annual Burden (OMB No. 3064-0169)
Information Collection (IC) (obligation to respond) | Type of burden (frequency of response) | Number of respondents | Number of responses per respondent | Average time per response (HH:MM) | Annual burden (hours)
1. Section D—Investor Reports on Affiliates (Required to Obtain Benefit) | Third-Party Disclosure (Annual) | 3 | 12 | 2:00 | 72
2. Section E—Maintenance of Business Books and Records (Required to Obtain Benefit) | Recordkeeping (Annual) | 3 | 4 | 2:00 | 24
3. Section I—Disclosures Regarding Investors and Entities in Ownership Chain (Required to Obtain Benefit) | Reporting (On occasion) | 1 | 1 | 4:00 | 4
Total Annual Burden (Hours) |  |  |  |  | 100
Source: FDIC.

General Description of Collection: The FDIC's policy statement on Qualifications for Failed Bank Acquisitions provides guidance to private capital investors interested in acquiring or investing in failed insured depository institutions regarding the terms and conditions for such investments or acquisitions. The information collected pursuant to the policy statement allows the FDIC to evaluate, among other things, whether such investors (and their related interests) could negatively impact the Deposit Insurance Fund, increase resolution costs, or operate in a manner that conflict with statutory safety and soundness principles and compliance requirements. There is no change in the method or substance of the collection. The estimated burden remains unchanged from the previous submission.

2. Title: Stress Testing Recordkeeping and Reporting.

OMB Number: 3064-0189.

Form Number: None.

Affected Public: Insured State nonmember banks and State savings associations.

Burden Estimate:

Summary of Estimated Annual Burden (OMB No. 3064-0189)
Information Collection (IC) (obligation to respond) | Type of burden (frequency of response) | Number of respondents | Number of responses per respondent | Average time per response (HH:MM) | Annual burden (hours)
1. Annual Stress Test Reporting Template and Documentation for covered banks with total consolidated assets of $250 billion or more, 12 CFR 325.6 (Mandatory) | Reporting (Biennial) | 1 | 0.667 | 240:00 | 240
2. Methodologies and Practices for covered banks with total consolidated assets of $250 billion or more, 12 CFR 325.5 (Mandatory) | Recordkeeping (Biennial) | 1 | 0.667 | 640:00 | 640
3. Publication—covered banks with total consolidated assets of $250 billion or more, 12 CFR 325.7 (Mandatory) | Third-Party Disclosure (Biennial) | 1 | 0.667 | 160:00 | 160
4. Documentation of Assumptions, Uncertainties and Limitations for FDIC-supervised IDIs with total consolidated assets of $10 billion or more, 2009 Interagency Guidance (Voluntary) | Recordkeeping (Annual) | 48 | 1 | 40:00 | 1,920
5. Summary of Test Results for FDIC-supervised IDIs with total consolidated assets of $10 billion or more, 2009 Interagency Guidance (Voluntary) | Recordkeeping (Annual) | 48 | 1 | 40:00 | 1,920
6. Policies and Procedures for FDIC-supervised IDIs with total consolidated assets of $10 billion or more, 2009 Interagency Guidance (Voluntary) | Recordkeeping (Annual) | 9 | 1 | 180:00 | 1,620
Total Annual Burden (Hours) |  |  |  |  | 6,500
Source: FDIC.

General Description of Collection: The FDIC has issued a rule requiring periodic stress testing by FDIC-supervised institutions having more than $250 billion in total assets, consistent with changes made by section 401 of the Economic Growth, Regulatory Relief, and Consumer Protection Act (EGRRCPA). Section 165(i)(2) of the Dodd-Frank Act requires each primary Federal regulator to issue consistent and comparable regulations to (1) ensure that certain financial companies conduct stress tests, (2) establish the form and content of the required reports of such stress tests, and (3) require companies to publish a summary of the stress test results. As originally enacted, section 165(i)(2)(C) applied to all IDIs with average total consolidated assets of $10 billion or greater, required such IDIs to conduct annual stress tests, and required the use of three scenarios: baseline, adverse, and severely adverse. Consistent with the requirements of section 165(i)(2)(C), as originally enacted, the FDIC published its final rule implementing section 165(i)(2) on October 15, 2012. The requirements under 12 CFR part 325 applied to FDIC-supervised IDIs with average total consolidated assets of $10 billion or greater. The EGRRCPA, enacted on May 24, 2018, amended certain aspects of the company-run stress-testing requirements in section 165(i)(2) of the Dodd-Frank Act. The EGRRCPA amendments to the section 165(i)(2) stress testing requirements became effective eighteen months after enactment. The aspects of 12 CFR part 325 that constitute an information collection are those that require a banking organization to (1) file stress test reports to be filed periodically with the FDIC and the Board of Governors of the Federal Reserve System in the time, manner, and form specified by the FDIC (12 CFR 325.6); (2) establish and maintain a system of controls, oversight, and documentation, including policies and procedures that describe the covered bank's stress test practices and methodologies, as well as processes for updating such bank's stress test practices, as well as specific calculations that must be made by the banking organization during its stress tests (12 CFR 325.5); and (3) publish a summary of the results of its stress tests (12 CFR 325.7). On May 17, 2012, the FDIC, the Office of the Comptroller of the Currency, and the Board of Governors of the Federal Reserve published the 2012 Interagency Guidance on the use of stress testing as a means to better understand the range of a banking organization's potential risk exposures. The guidance is intended for IDIs with total consolidated assets of more than $10 billion and provides an overview of how a banking organization should structure its stress testing activities to ensure they fit into the banking organization's overall risk management program. The purpose of the guidance is to outline broad principles for a satisfactory stress testing framework and describe the manner in which stress testing should be used, that is as an integral component of risk management applicable at various levels of aggregation within a banking organization as well as a tool for capital and liquidity planning. The 2012 Interagency Guidance recommends that IDIs stress test in coordination with their “overall strategy and annual planning cycles and assess and review their stress testing frameworks at least once a year to ensure that stress testing coverage is comprehensive, tests are relevant and current, methodologies are sound, and results are properly considered.” The aspects of the 2012 Interagency Guidance that constitute an information collection are the provisions that state a banking organization should (1) have a stress testing framework that includes clearly defined objectives, well designed scenarios tailored to the banking organization's business and risks, well documented assumptions, conceptually sound methodologies to assess potential impact on the banking organization's financial condition (Section II); (2) maintain an internal summary of test results to document at a high level the range of its stress testing activities and outcomes, as well as proposed follow-up actions (Section III); and (3) have policies and procedures for a stress testing framework (Section VI). There has been no change in the substance or methodology of this information collection. The 774-hour increase in total estimated annual burden from 5,726 hours in 2023 to 6,500 hours currently is due to the doubling of annual responses to ICs 1-3 and the increased number of respondents to IC 6 and is attenuated by the decreased number of respondents to ICs 4 and 5.

Request for Comment

Comments are invited on (a) whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on January 12, 2026.
Jennifer M. Jones,
Deputy Executive Secretary.

[FR Doc. 2026-00639 Filed 1-14-26; 8:45 am]

BILLING CODE 6714-01-P